DEPARTMENT OF HOMELAND SECURITY

Federal Emergency Management Agency

[Docket ID FEMA-2013-0002; Internal Agency Docket No. FEMA-B-1314]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Baldwin | City of Gulf Shores (12-04-4631P) | The Honorable Robert S. Craft, Mayor, City of Gulf Shores, P.O. Box 299, Gulf Shores, AL 36547 | Community Development Department, 1905 West 1st Street, Gulf Shores, AL 36547 | http://www.bakeraecom.com/index.php/alabama/baldwin/ | June 17, 2013 | 015005
Arizona:
Maricopa | City of Phoenix (12-09-2591P) | The Honorable Greg Stanton, Mayor, City of Phoenix, 200 West Washington Street, 11th Floor, Phoenix, AZ 85003 | Street Transportation Department, 200 West Washington Street, 5th Floor, Phoenix, AZ 85003 | http://www.r9map.org/Docs/12-09-2591P-040051-102IAC.pdf | June 14, 2013 | 040051
Yuma | Unincorporated areas Yuma County (13-09-0814P) | The Honorable Gregory S. Ferguson, Chairman, Yuma County Board of Supervisors, 198 South Main Street, Yuma, AZ 85364 | Yuma County Department of Development Services, 2351 West 26th Street, Yuma, AZ 85364 | http://www.r9map.org/Docs/13-09-0814P-040099-102IAC.pdf | June 14, 2013 | 040099
California:
Sacramento | City of Elk Grove (12-09-0565P) | The Honorable Gary Davis, Mayor, City of Elk Grove, 8401 Laguna Palms Way, Elk Grove, CA 95758 | Department of Public Works, 8401 Laguna Palms Way, Elk Grove, CA 95758 | http://www.r9map.org/Docs/12-09-0565P-060767-102IAC.pdf | June 21, 2013 | 060767
Contra Costa | City of Pittsburg (12-09-2983P) | The Honorable Ben Johnson, Mayor, City of Pittsburg, 65 Civic Avenue, Pittsburg, CA 94565 | City Hall, Engineering Records Section, 65 Civic Avenue, Pittsburg, CA 94565 | http://www.r9map.org/Docs/12-09-2983P-060033-102IAC.pdf | May 6, 2013 | 060033
San Joaquin | Unincorporated areas San Joaquin County (12-09-2566P) | The Honorable Ken Vogel, Chairman, San Joaquin County Board of Supervisors, 44 North San Joaquin Street, 6th Floor, Stockton, CA 95202 | San Joaquin County Public Works Department, 1810 East Hazelton Avenue, Stockton, CA 95205 | http://www.r9map.org/Docs/12-09-2566P-060299-102IAC.pdf | June 28, 2013 | 060299
Colorado:
Boulder | City of Boulder (12-08-0778P) | The Honorable Matthew Appelbaum, Mayor, City of Boulder, P.O. Box 791, Boulder, CO 80306 | Municipal Building Plaza, 1777 Broadway Street, Boulder, CO 80302 | http://www.bakeraecom.com/index.php/colorado/boulder/ | June 17, 2013 | 080024
Jefferson | Unincorporated areas Jefferson County (12-08-0863P) | The Honorable Donald Rosier, Chairman, Jefferson County Board of Commissioners, 100 Jefferson County Parkway, Golden, CO 80419 | Jefferson County Department of Planning and Zoning, 100 Jefferson County Parkway, Golden, CO 80419 | http://www.bakeraecom.com/index.php/colorado/jefferson-5/ | June 28, 2013 | 080087
Jefferson | Unincorporated areas Jefferson County (13-08-0089P) | The Honorable Donald Rosier, Chairman, Jefferson County Board of Commissioners, 100 Jefferson County Parkway, Golden, CO 80419 | Jefferson County Department of Planning and Zoning, 100 Jefferson County Parkway, Golden, CO 80419 | http://www.bakeraecom.com/index.php/colorado/jefferson-5/ | May 31, 2013 | 080087
Florida:
Collier | City of Naples (12-04-7151P) | The Honorable John F. Sorey, III, Mayor, City of Naples, 735 8th Street South, Naples, FL 34102 | City Hall, 735 8th Street South, Naples, FL 34102 | http://www.bakeraecom.com/index.php/florida/collier/ | June 17, 2013 | 125130
Escambia | Unincorporated areas Escambia County (12-04-8486P) | The Honorable Gene M. Valentino, Chairman, Escambia County Board of Commissioners, 221 Palafox Place, Suite 400, Pensacola, FL 32502 | Escambia County Department of Planning and Zoning, 1190 West Leonard Street, Pensacola, FL 32501 | http://www.bakeraecom.com/index.php/florida/escambia-2/ | June 21, 2013 | 120080
Orange | City of Orlando (12-04-6931P) | The Honorable Buddy Dyer, Mayor, City of Orlando, P.O. Box 4990, Orlando, FL 32808 | One City Commons, 400 South Orange Avenue, Orlando, FL 32808 | http://www.bakeraecom.com/index.php/florida/orange-2/ | March 8, 2013 | 120186
North Carolina:
Union | Unincorporated areas of Union County (12-04-5213P) | The Honorable Cynthia Coto, Union County Manager, 500 North Main Street, Room 918, Monroe, NC 28112 | Union County Planning Department, 407 North Main Street, Room 149, Monroe, NC 28112 | http://www.ncfloodmaps.com/fhd.htm | June 12, 2013 | 370234
South Carolina:
Charleston | City of North Charleston (13-04-1047P) | The Honorable R. Keith Summey, Mayor, City of North Charleston, P.O. Box 190016, North Charleston, SC 29419 | Building Inspections Department, 2500 City Hall Lane, North Charleston, SC 29406 | http://www.bakeraecom.com/index.php/southcarolina/charleston-2/ | June 14, 2013 | 450042
Greenwood | Unincorporated areas of Greenwood County (12-04-3813P) | The Honorable Mark Allison, Chairman, Greenwood County Council, 600 Monument Street, Suite 102, Greenwood, SC 29646 | Greenwood County Courthouse, 600 Monument Street, Greenwood, SC 29646 | http://www.bakeraecom.com/index.php/southcarolina/greenwood | June 28, 2013 | 450094
Horry | City of Myrtle Beach (13-04-1594P) | The Honorable John T. Rhodes, Mayor, City of Myrtle Beach, P.O. Box 2468, Myrtle Beach, SC 29578 | City Services Building, Construction Services Department, 921 Oak Street, Myrtle Beach, SC 29577 | http://www.bakeraecom.com/index.php/southcarolina/horry/ | June 21, 2013 | 450109
Utah:
Summit | City of Park City (12-08-1031P) | The Honorable Dana Williams, Mayor, City of Park City, P.O. Box 1480, Park City, UT 84060 | City Hall, 445 Marsac Avenue, Park City, UT 84060 | http://www.bakeraecom.com/index.php/utah/summit-2/ | June 13, 2013 | 490139

(Catalog of Federal Domestic Assistance No. 97.022, “Flood Insurance.”)

Roy E. Wright,
Deputy Associate Administrator for Mitigation, Department of Homeland Security, Federal Emergency Management Agency.

[FR Doc. 2013-07806 Filed 4-3-13; 8:45 am]

BILLING CODE 9110-12-P